DEPARTMENT OF LABOR

Office of the Secretary

Agency Information Collection Activities; Submission for OMB Review; Comment Request; Authorization Request Forms/Certification/Letter of Medical Necessity

ACTION: Notice.

SUMMARY: The Department of Labor (DOL) is submitting the Office of Workers' Compensation Programs (OWCP) sponsored information collection request (ICR) proposal titled, “Authorization Request Forms/Certification/Letter of Medical Necessity,” to the Office of Management and Budget (OMB) for review and approval for use in accordance with the Paperwork Reduction Act (PRA) of 1995 (44 U.S.C. 3501 et seq.). Public comments on the ICR are invited.

DATES: The OMB will consider all written comments that agency receives on or before October 6, 2016.

ADDRESSES: A copy of this ICR with applicable supporting documentation; including a description of the likely respondents, proposed frequency of response, and estimated total burden may be obtained free of charge from the RegInfo.gov Web site at http://www.reginfo.gov/public/do/PRAViewICR?ref_nbr=201606-1240-003 (this link will only become active on the day following publication of this notice) or by contacting Michel Smyth by telephone at 202-693-4129 (this is not a toll-free number) or by email at DOL_PRA_PUBLIC@dol.gov.

Submit comments about this request by mail or courier to the Office of Information and Regulatory Affairs, Attn: OMB Desk Officer for DOL-OWCP, Office of Management and Budget, Room 10235, 725 17th Street NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: This ICR seeks PRA authority for the Authorization Request Forms/Certification/Letter of Medical Necessity information collection consisting of Forms CA-26 (Authorization Request Form and Certification/Letter of Medical Necessity for Compounded Drugs) and CA-27 (Authorization Request Form and Certification/Letter of Medical Necessity for Opioid Medications). The Federal Employee's Compensation Act (FECA) provides that the OWCP furnish to a Federal employee who is injured while in the performance of duty the services, appliances, and supplies prescribed or recommended by a qualified physician that the OWCP considers likely to cure, give relief, reduce the degree or the period of disability, or aid in lessening the amount of the monthly compensation. See 5 U.S.C. 8103. Forms CA-26 and CA-27 require an injured worker's treating physician to answer questions about the prescribed opioids and/or compounded drugs and certify they are medically necessary to treat the work-related injury. Responses to the questions are intended to ensure treating physicians have considered non-opioid and non-compounded drug alternatives and are only prescribing the most cost effective and medically necessary drugs. The forms will also permit the OWCP more easily to track the volume, type, and characteristics of opioids and compounded drugs authorized by the FECA program. The forms will serve as a means for injured workers to continue receiving opioids and compounded drugs only where medically necessary and simultaneously give the OWCP greater oversight in monitoring their appropriate use and gather additional data about their use. FECA section 36(a)(2) authorizes this information collection. See 5 U.S.C. 8124(a)(2).

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on June 22, 2016 (81 FR 40721).

Interested parties are encouraged to send comments to the OMB, Office of Information and Regulatory Affairs at the address shown in the ADDRESSES section within thirty (30) days of publication of this notice in the Federal Register. In order to help ensure appropriate consideration, comments should mention OMB ICR Reference Number 201606-1240-003. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Authorization Request Forms/Certification/Letter of Medical Necessity.

OMB ICR Reference Number: 2016006-1240-003.

Affected Public: Individuals or Households.

Total Estimated Number of Respondents: 86,000.

Total Estimated Number of Responses: 71,275.

Total Estimated Annual Time Burden: 43,000 hours.

Total Estimated Annual Other Costs Burden: $0.

Dated: September 1, 2016.
Michel Smyth,
Departmental Clearance Officer.

[FR Doc. 2016-21451 Filed 9-2-16; 8:45 am]

BILLING CODE 4510-CH-P